DEPARTMENT OF TRANSPORTATION

Federal Aviation Administration

Proposed Technical Standard Order—TSO-C39c, 9g Transport Airplane Seats Certified by Static Testing

AGENCY: Federal Aviation Administration, DOT.

ACTION: Notice of availability and requests for public comment.

SUMMARY: This notice announces the availability of and request comments on a proposed Technical Standard Order (TSO) C39c, 9g Transport Airplane Seats Certified by Static Testing. The proposed TSO-C39c prescribes the minimum performance standard (MPS) that a seat to be used in a 9g transport category airplane must meet in order to bear the TSO number on its identification plate. This notice also proposes how existing TSO-C39b will be approved for future TSO applications for seats used in normal, utility and acrobatic airplanes and rotorcraft.

DATES: Comments must identify the TSO and be received on or before October 15, 2003.

ADDRESSES: Send all comments on the proposed technical standard order to: Federal Aviation Administration, Aircraft Certification Service, Aircraft Engineering Division, Room 815, 800 Independence Avenue, SW., Washington, DC 20591. ATTN: Mr. Hal Jensen, AIR-120. Or, deliver comments to: Federal Aviation Administration, Aircraft Engineering Division, Room 815, 800 Independence Avenue, SW., Washington, DC 20591.

FOR FURTHER INFORMATION CONTACT: Mr. Hal Jensen, FAA, Aircraft Certification Service, Aircraft Engineering Division, Technical Programs Branch, AIR-120, Room 835, 800 Independence Avenue, SW., Washington, DC, 20591; telephone: (202) 267-8807; fax: (202) 267-5340; e-mail hal.jensen@faa.gov.

SUPPLEMENTARY INFORMATION:

Comments Invited

Interested persons are invited to comment on the proposed TSO by submitting such written data, views, or arguments, as they desire, to the aforementioned specified address. Comments received on the proposed TSO may be examined, before the closing date, in Room 815, FAA Headquarters Building, 800 Independence Avenue, SW., Washington, DC 20591, weekdays except Federal holidays, between 8:30 a.m. and 4:30 p.m. All communications received on or before the closing date will be considered by the Director of the Aircraft Certification Service before issuing the final TSO.

Background

In response to a recommendation the Federal Aviation Administration (FAA) streamline the aircraft seat certification processes, we issued a proposed Technical Standard Order (TSO)—C39c, Aircraft Seats and Berths, dated July 12, 2003. The purpose of the proposed TSO-C39c, was to improve the consistent application and interpretation in certifying the 9g static requirement for aircraft seats, and those aircraft seats that must meet the 9g static and 16g dynamic requirements of TSO-C127 and TSO-C127a (TSO-C127/127a).

After considering the comments received, based on our July 12, 2003, request, we decided the FAA and the public would not benefit by combining the static requirements of TSO-C39c with the static requirements of TSO-C127a in this proposed revision. Therefore, proposed TSO-C39c will reference the Society of Automotive Engineers (SAE) Aerospace Standard (AS) 8049, Performance Standards for Seats in Civil Rotorcraft, Transport Aircraft, and General Aviation Aircraft, Rev. A., resulting in the TSO applying only to 9g transport category airplane seats certified by static testing. Note however, the applicability of TSO-C39b, referencing the National Aircraft Standard (NAS) 809, Specification—Aircraft Seats and Berths, will apply to approval of aircraft berths and 9g seats in normal and utility (Type II), acrobatic (Type III), and rotorcraft (Type IV) only.

Although this proposal splits the TSO-C39 by revisions based on the seat's aircraft applicability, we believe it will resolve more issues than other options would introduce. Therefore, based on the public comments received, we determined the technical and procedural issues of standardizing the static requirements of TSO-C39b and TSO-C127/127a for transport airplanes is achievable. We also determined standardizing would provide little benefit and potentially higher cost for manufacturers of aircraft seats used in non-transport category airplanes. We accomplish this by referencing the proper industry standard, NAS 809 or SAE AS8049, based on seat “Type” used in TSO-C39b and TSO-C39c respectively.

How To Obtain Copies

A copy of the proposed TSO may be obtained via the Internet at, http://www.faa.gov/certification/aircraft/TSOA.htm, or by contacting the person listed in the section titled FOR FURTHER INFORMATION CONTACT.

Dated: Issued in Washington, DC, on September 8, 2003.
David W. Hempe,
Manager, Aircraft Engineering Division, Aircraft Certification Service.

[FR Doc. 03-23302 Filed 9-11-03; 8:45 am]

BILLING CODE 4910-13-M